DEPARTMENT OF THE INTERIOR

National Park Service

[NPS-WASO-NRSS-1210-6465; 2330-RYY]

Proposed Information Collection; National Park Service Natural Quiet Valuation

AGENCY: National Park Service, Interior.

ACTION: Notice; request for comments.

SUMMARY: The National Park Service (NPS) will ask the Office of Management and Budget (OMB) to approve the Information Collection (IC) for a pretest and a subsequent survey of the general public concerning the use and non-use value of natural quiet in national parks. Under the provisions of the Paperwork Reduction Act of 1995 and a part of our continuing efforts to reduce paperwork and respondent burden, we invite the general public and other Federal agencies to comment on this IC. We may not conduct or sponsor and a person is not required to respond to a collection unless it displays a currently valid OMB control number.

DATES: Public comments will be accepted on the proposed Information Collection (IC) on or before April 5, 2011.

ADDRESSES: Send Comments concerning this IC to: Catherine Taylor, Volpe National Transportation Systems Center, Economics and Industry Analysis Division (RVT-21), 55 Broadway, Cambridge, MA 02142; via e-mail at Catherine.Taylor@dot.gov or via phone at 617-494-2380. Also, you may send comments to: Dr. Bruce Peacock, Chief, Social Science Division, Natural Resource Program Center, National Park Service, 1201 Oakridge Drive, Fort Collins, CO 80525-5596, via e-mail at Bruce_Peacock@nps.gov or via phone at 970-267-2106. All responses to this Notice will be summarized and included in the proposed Information Collection Request (ICR) for the Office of Management and Budget (OMB) approval. Please note that all comments will become a matter of public record.

To Request a Draft of Proposed Collection of Information, Contact: Catherine Taylor, Volpe National Transportation Systems Center, Economics and Industry Analysis Division (RVT-21), 55 Broadway, Cambridge, MA 02142; or via e-mail at Catherine.Taylor@dot.gov or via phone at 617-494-2380.

FOR FURTHER INFORMATION CONTACT: Dr. Bruce Peacock, Chief, Social Science Division, Natural Resource Program Center, National Park Service, 1201 Oakridge Drive, Fort Collins, CO 80525-5596, or via e-mail at Bruce_Peacock@nps.gov or via phone at 970-267-2106.

SUPPLEMENTARY INFORMATION:

I. Abstract

The National Park Service (NPS) Act of 1916, 38 Stat 535, 16 U.S.C. 1, et seq., requires that the NPS preserve national parks for the use and enjoyment of present and future generations. In keeping with this mission, the NPS must be sensitive to human activity in parks that can impact the natural landscape. An area of growing concern has been the increasing presence of human-caused sounds at the national parks, including sounds from road vehicles, aircraft, and construction and mining equipment. These human-caused sounds can affect both human visitors and wildlife that live in the park.

Due to adverse impacts of human-caused sounds, the NPS is developing sound management policies at a number of national parks. To better inform the development of such practices, the NPS seeks to understand the “use” and “non-use” values the general public (visitors and non-visitors) hold for preserving natural quiet at national parks.

This information collection will consist of pre-tests and a final survey instrument that will be used to derive estimates of the use and non-use value of natural quiet to the public. The pre-test will involve a series of focus groups for the purpose of developing and refining the questions to be used in the survey. Following the focus groups, the revised survey will then be pre-tested among a small group of respondents for final feedback and refinement. The final survey will be administered to the park visitors to estimate their use value and to the general public to estimate their non-use value of natural quiet in a national park.

II. Data

OMB Control Number: None. This is a new collection.

Title: Quantifying the Non-use Value of Natural Quiet at National Parks to the General Public.

Type of Request: New.

Respondent Obligation: Voluntary.

Frequency of response: One-time per respondent.

Description of Respondents: General public; visitors and non-visitors.

Estimated Number of Respondents: 1,140.

&emsp;
| Visitor | General public
Pretest | 52 | 88
Survey | 500 | 500
Total Number of Respondents | 552 | 588

Estimated Total Annual Burden Hours: 534.

| Visitor | General public
Pretest | 132 | 68
Survey | 167 | 167
Total Hours | 299 | 235

III. Request for Comments

Comments are invited on: (1) The practical utility of the information being gathered; (2) the accuracy of the burden hour estimate; (3) ways to enhance the quality, utility, and clarity of the information to be collected; and (4) ways to minimize the burden to respondents, including use of automated information techniques or other forms of information technology. Comments that you submit in response to this notice are a matter of public record. Before including your address, phone number, e-mail address, or other personal identifying information in your comment; please be aware that your entire comment, including your personal identifying information may be made publicly available at any time. While you can ask us in your comment to withhold personal identifying information from public review, we cannot guarantee that we will be able to do so.

Dated: January 31, 2011.
Robert Gordon,
Information Collection Clearance Officer, National Park Service.

[FR Doc. 2011-2450 Filed 2-3-11; 8:45 am]

BILLING CODE 4312-52-P